NATIONAL SCIENCE FOUNDATION

Advisory Committee for Social, Behavioral and Economic Sciences; Notice of Meeting

In accordance with the Federal Advisory Committee Act (Pub. L. 92-463, as amended), the National Science Foundation announces the following meeting.

Name: Advisory Committee for Social, Behavioral, and Economic Sciences (#1171).

Date and Time: November 6, 2003 8:30AM-5 p.m., November 7, 2003 8:30AM-12:30 p.m.

Place: Holiday Inn Arlington, Ballston and Clarendon Rooms, 4610 North Fairfax Drive, Arlington, VA 22203.

Type of Meeting: Open.

Contact Person: Dr. Sally Kane, Senior Advisor, ACSBE, Directorate for Social, Behavioral, and Economic Sciences, National Science Foundation, 4201 Wilson Boulevard, Room 905, Arlington, VA 22230, 703-292-8741.

Summary Minutes: May be obtained from contact person listed above.

Purpose of Meeting: To provide advice and recommendations to the National Science Foundation on major goals and policies pertaining to Social, Behavioral and Economic Sciences Directorate programs and activities.

Agenda: Discussion on issues, role and future direction of the Directorate for Social, Behavioral, and Economic Sciences.

Dated: October 7, 2003.
Susanne E. Bolton,
Committee Management Officer.

[FR Doc. 03-25835 Filed 10-10-03; 8:45 am]

BILLING CODE 7555-01-M